DEPARTMENT OF COMMERCE

National Oceanic and Atmospheric Administration

50 CFR Part 665

RIN 0648-XG925

Pacific Island Pelagic Fisheries; 2019 U.S. Territorial Longline Bigeye Tuna Catch Limits for American Samoa

AGENCY: National Marine Fisheries Service (NMFS), National Oceanic and Atmospheric Administration (NOAA), Commerce.

ACTION: Announcement of a valid specified fishing agreement.

SUMMARY: NMFS announces a valid specified fishing agreement that allocates up to 1,000 metric tons (t) of the 2019 bigeye tuna limit for the Territory of American Samoa to U.S. longline fishing vessels. The agreement supports the long-term sustainability of fishery resources of the U.S. Pacific Islands, and fisheries development in American Samoa.

DATES: The specified fishing agreement was valid as of September 15, 2019. The start date for attributing 2019 bigeye tuna catch to American Samoa is October 28, 2019.

ADDRESSES: The Fishery Ecosystem Plan for Pelagic Fisheries of the Western Pacific (Pelagic FEP) describes specified fishing agreements and is available from the Western Pacific Fishery Management Council (Council), 1164 Bishop St., Suite 1400, Honolulu, HI 96813, tel 808-522-8220, fax 808-522-8226, or http://www.wpcouncil.org.

NMFS prepared environmental analyses that describe the potential impacts on the human environment that would result from the action. The analyses, identified by NOAA-NMFS-2019-0028, are available from https://www.regulations.gov/docket?D=NOAA-NMFS-2019-0028, or from Michael D. Tosatto, Regional Administrator, NMFS Pacific Islands Region (PIR), 1845 Wasp Blvd., Bldg. 176, Honolulu, HI 96818.

FOR FURTHER INFORMATION CONTACT: Jarad Makaiau, NMFS PIRO Sustainable Fisheries, 808-725-5176.

SUPPLEMENTARY INFORMATION: In a final rule published on July 18, 2019, NMFS specified a 2019 limit of 2,000 t of longline-caught bigeye tuna for the U.S. Pacific Island territories of American Samoa, Guam, and the Commonwealth of the Northern Mariana Islands (CNMI) (84 FR 34321). NMFS allows each territory to allocate up to 1,000 t of the 2,000 t limit to U.S. longline fishing vessels identified in a valid specified fishing agreement.

On August 15, 2019, NMFS received from the Council a specified fishing agreement between the Territory of American Samoa and the Hawaii Longline Association (HLA). The Council's Executive Director advised that the specified fishing agreement was consistent with the criteria set forth in 50 CFR 665.819(c)(1). On September 15, 2019, NMFS reviewed the agreement and determined that it is consistent with the Fishery Ecosystem Plan for Pelagic Fisheries of the Western Pacific, the Magnuson-Stevens Fishery Conservation and Management Act, implementing regulations, and other applicable laws. However, because at that time, vessels identified in a previous agreement between the CNMI and HLA only attained about a third of the 1,000 t CNMI allocation limit, NMFS decided to await a more accurate projection to determine the date for attributing catch to the 2019 American Samoa limit. Based on logbook data submitted by U.S. longline vessels operating under the CNMI/HLA agreement, NMFS now forecasts the CNMI allocation limit of 1,000 t will be reached by November 4, 2019.

In accordance with 50 CFR 300.224(d) and 50 CFR 665.819(c)(9), vessels in the agreement may retain and land bigeye tuna in the western and central Pacific Ocean under the American Samoa attribution limit. NMFS will begin attributing bigeye tuna caught by vessels in the agreement to American Samoa starting October 28, 2019. If NMFS determines that the fishery will reach the 1,000 t allocation limit, we will restrict the retention of bigeye tuna caught by vessels in the agreement, unless the vessels are included in a subsequent specified fishing agreement with another U.S. territory.

Authority: 16 U.S.C. 1801 et seq.

Dated: October 23, 2019.
Jennifer M. Wallace,
Acting Director, Office of Sustainable Fisheries, National Marine Fisheries Service.

[FR Doc. 2019-23470 Filed 10-25-19; 8:45 am]

BILLING CODE 3510-22-P